DEPARTMENT OF HOMELAND SECURITY

Coast Guard

33 CFR Part 165

[Docket No. USCG-2022-0239]

Safety Zones; Fireworks Displays in the Fifth Coast Guard District

AGENCY: Coast Guard, DHS.

ACTION: Notice of enforcement of regulation.

SUMMARY: The Coast Guard will enforce safety zones for five fireworks displays as described in the table to 33 CFR 165.506 on multiple dates on and around July 4, 2022. Our regulation for marine events within the Fifth Coast Guard District identifies the regulated areas for these fireworks displays. During the enforcement periods, vessels may not enter, remain in, or transit through the safety zones unless authorized by the Captain of the Port or designated Coast Guard patrol personnel on-scene.

DATES: The regulations in table 1 to paragraph (h)(1) to 33 CFR 165.506, will be enforced for the safety zones identified in the SUPPLEMENTARY INFORMATION section below for the dates and times specified.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION:

The Coast Guard will enforce the safety zones established in table 1 to paragraph (h)(1) to 33 CFR 165.506, for the following five fireworks displays during the dates, times, and at the locations listed in the following table:

Dates and Times of Enforcement of Certain 33 CFR 165.506 Safety Zones for Fireworks Displays in the Coast Guard Sector Delaware Bay COTP Zone in July 2022
Date | Time | Location | Safety zone
July 1, 2022 | 9:30 p.m. to 10:15 p.m | Delaware River, Philadelphia, PA; Safety Zone | All waters of Delaware River, adjacent to Penn's Landing, Philadelphia, PA, within a 500-yard radius of a fireworks barge at approximate position latitude 39°56′49″ N, longitude 075°08′11″ W.
July 4, 2022 | 9 p.m. to 10 p.m | Little Egg Harbor, Parker Island, NJ; Safety Zone | All waters of Little Egg Harbor within a 500-yard radius of the fireworks barge in approximate position latitude 39°34′18″ N, longitude 074°14′43″ W, approximately 50 yards north of Parkers Island.
July 4, 2022 | 9 p.m. to 10:30 p.m | Delaware River, Philadelphia, PA; Safety Zone | All waters of Delaware River, adjacent to Penn's Landing, Philadelphia, PA, within a 500-yard radius of a fireworks barge at approximate position latitude 39°56′49″ N, longitude 075°08′11″ W.
July 4, 2022 | 8:45 p.m. to 9:30 p.m | Delaware Bay, Lewes, DE; Safety Zone | All waters of Delaware Bay off Lewes, DE, within a 350 yard radius of the barge anchored in approximate position 38°47′12″ N, 075°07′48″ W.
July 4, 2022 or rain date of July 5, 2022 | 9 p.m. to 10 p.m | North Atlantic Ocean, Avalon, NJ; Safety Zone | The waters of the North Atlantic Ocean within a 500-yard radius of the fireworks barge in approximate location latitude 39°06′19.5″ N, longitude 074°42′02.15″ W, in the vicinity of the shoreline at Avalon, NJ.

During the enforcement period, as reflected in § 165.506(d), vessels may not enter, remain in, or transit through the safety zone unless authorized by the Captain of the Port or designated Coast Guard patrol personnel on-scene.

In addition to this notice of enforcement in the Federal Register, the Coast Guard will provide notification of this enforcement period via broadcast notice to mariners.

Dated: June 16, 2022.
Jonathan D. Theel,
Captain, U.S. Coast Guard, Captain of the Port Delaware Bay.

[FR Doc. 2022-13339 Filed 6-22-22; 8:45 am]

BILLING CODE 9110-04-P